COMMISSION ON CIVIL RIGHTS

Agenda and Notice of Public Meetings of the Nebraska Advisory Committee

AGENCY: Commission on Civil Rights.

ACTION: Announcement of public meetings.

SUMMARY: Notice is hereby given, pursuant to the provisions of the rules and regulations of the U.S. Commission on Civil Rights (Commission), and the Federal Advisory Committee Act (FACA) that the Nebraska State Advisory Committee to the Commission will hold virtual meetings on Monday, February 22, 2021 from 10:00 a.m.-11:00 a.m. (CT); Monday, March 1, 2021 from 9:00 a.m.-10:00 a.m. (CT); and Wednesday, March 10, 2021 from 10:00 a.m.-11:00 a.m. (CT). The purpose of these meetings is to review and approve the Committee's draft report to the Commission on the use of Native American symbols, names, and imagery in school mascots.

FOR FURTHER INFORMATION CONTACT: Melissa Wojnaroski at mwojnaroski@usccr.gov, or by phone at (202) 618-4158.

SUPPLEMENTARY INFORMATION:

Meeting Access: These meetings will be held on:

• Monday, February 22, 2021, at 10:00 a.m. to 11:00 a.m. (CT)

○ Join online (audio/visual): https://tinyurl.com/y3h8xdo3

○ Join by phone (audio only): 800-360-9505; Access code: 199 004 6752

• Monday, March 1, 2021, at 9:00 a.m. to 10:00 a.m. (CT)

○ Join online (audio/visual): https://tinyurl.com/y6ctrto5

○ Join by phone (audio only): 800-360-9505; Access code: 199 073 3890

• Wednesday, March 10, 2021 at 10:00 a.m. to 11:00 a.m. (CT)

○ Join online (audio/visual): https://tinyurl.com/y6xucvps

○ Join by phone (audio only): 800-360-9505; Access code: 199 518 6743

These meetings are available to the public through the registration links above. If joining only via phone, callers can expect to incur charges for calls they initiate over wireless lines, according to their wireless plans. The Commission will not refund any incurred charges. Individuals who are deaf, deafblind and hard of hearing may also follow the proceedings by first calling the Federal Relay Service at 1-800-877-8339 and providing the Service with the call-in number found through registering at the web link provided for each meeting.

Members of the public are entitled to make comments during the open period at the end of each meeting. Members of the public may also submit written comments; the comments must be received in the Regional Programs Unit within 30 days following the respective meeting. Written comments may be emailed to Melissa Wojnaroski at mojnaroski@usccr.gov. Persons who desire additional information may contact the Regional Programs Unit at (202) 618-4158. Records and documents discussed during the meeting will be available for public viewing as they become available at www.facadatabase.gov. Persons interested in the work of this advisory committee are advised to go to the Commission's website, www.usccr.gov, or to contact the Regional Programs Unit at the above phone number or email address.

Agenda: Monday, February 22, 2021 from 10:00 a.m.-11:00 a.m. (CT); Monday, March 1, 2021 from 9:00 a.m.-10:00 a.m.; (CT) and Wednesday, March 10, 2021 from 10:00 a.m.-11:00 a.m. (CT).

I. Welcome and Roll Call

II. Announcements and Updates

III. Approval of Minutes

IV. Discussion of draft report

V. Public Comment

VI. Next Steps

VII. Adjournment

Dated: January 13, 2021.
David Mussatt,
Supervisory Chief, Regional Programs Unit.

[FR Doc. 2021-01057 Filed 1-15-21; 8:45 am]

BILLING CODE 6335-01-P